DEPARTMENT OF COMMERCE

National Oceanic and Atmospheric Administration

50 CFR Part 216

[Docket No. 990927266-0240-02; I.D. 072699A]

RIN 0648-AM62

Taking and Importing Marine Mammals; Taking Marine Mammals Incidental to Navy Operations of Surveillance Towed Array Sensor System Low Frequency Active Sonar

AGENCY: National Marine Fisheries Service (NMFS), National Oceanic and Atmospheric Administration (NOAA), Commerce.

ACTION: Notice of public hearings and extension of comment deadline.

SUMMARY: By this document, NMFS announces the times, dates, and locations for public hearings in order to receive comments from the general public on the U.S. Navy's application for a Letter of Authorization for the take of small numbers of marine mammals by harassment incidental to Navy operations of the Surveillance Towed Array Sensor System Low Frequency Active (SURTASS LFA) Sonar. NMFS also announces an extension of the comment deadline in order to allow the public sufficient time following the close of the public hearings to submit written comments.

DATES: Public hearings on the proposed rule are scheduled as follows:

1. April 26, 2001, 6 p.m. - 9 p.m., Los Angeles, CA.

2. April 28, 2001, 1 p.m. - 5 p.m., Honolulu, HI.

3. May 3, 2001 9 a.m. - 12 noon, Silver Spring, MD.

Comments must be postmarked no later than May 18, 2001. Comments will not be accepted if submitted via e-mail or the Internet.

ADDRESSES: The public meetings will be held at the following locations:

1. Los Angeles: Renaissance Hotel,9620 Airport Boulevard, Los Angeles, CA.

2. Honolulu: Marriott Waikiki Beach Hotel, 2552 Kalakaua Avenue, Honolulu, HI.

3. Silver Spring: Silver Spring Metro Center Building 4, Auditorium, 1301 East-West Highway, Silver Spring, MD.

Comments should be addressed to Donna Wieting, Chief, Marine Mammal Conservation Division, Office of Protected Resources, National Marine Fisheries Service, 1315 East-West Highway, Silver Spring, MD 20910-3226.

A copy of the Navy's application is available and may be obtained by writing to this address or by telephoning one of the contact listed here.

FOR FURTHER INFORMATION CONTACT: Kenneth R. Hollingshead, NMFS (301) 713-2055, ext 128 or Christina Fahy, (562) 980-4023.

SUPPLEMENTARY INFORMATION: Section 101(a)(5)(A) of the Marine Mammal Protection Act (MMPA) (16 U.S.C. 1361 et seq.) directs the Secretary of Commerce to allow, upon request, the incidental, but not intentional taking of small numbers of marine mammals by U.S. citizens who engage in a specified activity (other than commercial fishing) within a specified geographical region if certain findings are made and regulations are issued. Permission may be granted for periods of 5 years or less if the Secretary finds that the taking will be small, have a negligible impact on the species or stock(s) of affected marine mammals, and will not have an unmitigable adverse impact on the availability of the species or stock(s) for subsistence uses, and if regulations are prescribed setting forth the permissible methods of taking and the requirements pertaining to the monitoring and reporting of such taking.

Under section 101(a)(5)(A) of the MMPA, on March 19, 2001, NMFS published a proposed rule (66 FR 15375) to authorize the taking of marine mammals incidental to the world-wide deployment of the U.S. Navy's SURTASS LFA sonar. That document noted that public hearings would be held, if requested. On March 26, 2001, NMFS received the first of numerous requests for a hearing and has determined that public hearings are warranted. In addition, to allow the public sufficient time after the public hearing to submit written comments, NMFS has extended the deadline for public comment from May 3, 2001, to May 18, 2001.

At the public hearings, a brief presentation will precede a request for public information and comments. Those who intend to speak will be asked to submit a speaker card (available at the door). Although oral comments will be heard, all statements, including graphics, should be submitted in writing to assure an accurate public record. All statements and documents submitted will become part of the public record on this rulemaking. Questions limited to NMFS' responsibilities under the MMPA regarding the subject action must be made during the speaker's comment time.

Speakers will have the option to submit additional, supplemental, or replacement comments prior to the deadline for the public comment. If 20 or more speaker cards are received at either hearing, NMFS may request all speakers to limit their presentations to 3 to 5 minutes, in order to allow all potential speakers the opportunity to present their statements.

These hearings will be physically accessible to people with disabilities. Requests for sign language interpretation or other aids should be directed to one of the contacts listed (see FOR FURTHER INFORMATION CONTACT) at least 10 days prior to the hearing date.

Dated: April 4, 2001.
Donald R. Knowles,
Director, Office of Protected Resources, National Marine Fisheries Service.

[FR Doc. 01-9265 Filed 4-12-01; 10:53 am]

BILLING CODE 3510-22-S